NATIONAL TRANSPORTATION SAFETY BOARD

Sunshine Act Meeting

FEDERAL REGISTER CITATION OF PREVIOUS ANNOUNCEMENT: 2017-25417.

TIME AND DATE: 9:30 a.m., Tuesday, December 12, 2017.

CHANGE IN THE MEETING TIME: 9:00 a.m., Tuesday, December 12, 2017.

Dated: November 27, 2017.
Candi R. Bing,
Federal Register Liaison Officer.

[FR Doc. 2017-25830 Filed 11-27-17; 4:15 pm]

BILLING CODE 7533-01-P